NUCLEAR REGULATORY COMMISSION

[NRC-2015-0285]

Containment Shell or Liner Moisture Barrier Inspection

AGENCY: Nuclear Regulatory Commission.

ACTION: Draft regulatory issue summary; request for comment.

SUMMARY: The U.S. Nuclear Regulatory Commission (NRC) is seeking public comment on a draft regulatory issue summary (RIS) to reiterate the NRC staff's position in regard to American Society of Mechanical Engineers (ASME) code-required inservice inspection requirements for moisture barriers. The NRC's regulations require, in part, that licensees implement the inservice inspection program for pressure retaining components and their integral attachments of metal containments and metallic liners of concrete containments in accordance with the ASME Code. If a material prevents moisture from contacting inaccessible areas of the containment shell or liner, especially if the material is being relied upon in lieu of augmented examinations of a susceptible location, the material must be inspected as a moisture barrier. The applicable ASME Code sections require licensees to inspect 100 percent of accessible moisture barriers during each inspection period.

DATES: Submit comments by January 25, 2016. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2015-0285. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Bryce Lehman, U.S. Nuclear Regulatory Commission, Washington DC 20555-0001; telephone: 301-415-1626, email: Bryce.Lehman@nrc.gov.

SUPPLEMENTARY INFORMATION:

I. Obtaining Information and Submitting Comments

A. Obtaining Information

Please refer to Docket ID NRC-2015-0285 when contacting the NRC about the availability of information for this action. You may obtain publicly-available information related to this action by any of the following methods:

• Federal rulemaking Web site: Go to http://www.regulations.gov and search for Docket ID NRC-2015-0285.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. This RIS is available under ADAMS Accession Number ML15208A522.

• NRC's PDR: You may examine and purchase copies of public documents at the NRC's PDR, Room O1-F21, One White Flint North, 11555 Rockville Pike, Rockville, Maryland 20852.

B. Submitting Comments

Please include Docket ID NRC-2015-0285 in your comment submission.

The NRC cautions you not to include identifying or contact information that you do not want to be publicly disclosed in your comment submission. The NRC will post all comment submissions at http://www.regulations.gov as well as enter the comment submissions into ADAMS. The NRC does not routinely edit comment submissions to remove identifying or contact information.

• If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The NRC issues RISs to communicate with stakeholders on a broad range of regulatory matters. This may include communicating staff technical positions on matters that have not been communicated to or are not broadly understood by the nuclear industry. The NRC staff has developed draft RIS 20YY-XX, “Containment Shell or Liner Moisture Barrier Inspection,” to reiterate NRC expectations for these inspections. The NRC staff has identified several instances in which containment shell or liner moisture barrier materials were not properly inspected in accordance with ASME Code Section XI, Table IWE-2500-1, Item E1.30. Note 4 (Note 3 in editions before 2013) for Item E1.30 under the “Parts Examined” column states, “Examination shall include moisture barrier materials intended to prevent intrusion of moisture against inaccessible areas of the pressure retaining metal containment shell or liner at concrete to metal interfaces and at metal to metal interfaces which are not seal welded. Containment moisture barrier materials include caulking, flashing, and other sealants used for this application.” Examples of inadequate inspections have included licensees not identifying sealant materials at metal-to-metal interfaces as moisture barriers because they are not specifically depicted in Figure IWE-2500-1, and licensees not inspecting installed moisture barrier materials per Item E1.30 because the material was not included in the original design or was not identified as a “moisture barrier” in the design documents.

The NRC staff expects licensees to inspect 100 percent of accessible moisture barriers during each inspection period, in accordance with Table IWE-2500-1, Item E1.30, as required by § 50.55a of title 10 of the Code of Federal Regulations (10 CFR). Items within the scope of E1.30 inspections shall be identified based on the function of the item as described in the Table IWE-2500 1 note. As noted previously, Figure IWE 2500 1 represents one typical moisture barrier geometry; however, it is not comprehensive. If a material prevents moisture from contacting inaccessible areas of the containment shell or liner, especially if the material is being relied upon in lieu of augmented examinations of a susceptible location per IWE-1241, the material shall be inspected as a moisture barrier, as also described in Information Notice 2014-07 (ADAMS Accession No. ML14070A114). Furthermore, if the Item E1.11 and Item E1.30 inspections are addressed in the same procedures, the inspection scope and acceptance criteria should identify the different surfaces. Items E1.11 and E1.30 address different materials with different geometries and acceptance criteria.

Proposed Action

The NRC is requesting public comments on the draft RIS. The NRC staff will make a final determination regarding issuance of the RIS after it considers any public comments received in response to this request.

Dated at Rockville, Maryland, this 17th day of December, 2015.
For the Nuclear Regulatory Commission.
/RA/
James T. Keene,
Acting Chief, Generic Communications Branch, Division of Policy and Rulemaking, Office of Nuclear Reactor Regulation.

[FR Doc. 2015-32338 Filed 12-23-15; 8:45 am]

BILLING CODE 7590-01-P